GENERAL SERVICES ADMINISTRATION

[Notice-P-2023-02; Docket No. 2023-0002; Sequence No. 25]

Notice of Intent To Prepare an Environmental Impact Statement and Public Scoping Meeting for the Expansion and Modernization of the Kenneth G Ward Land Port of Entry in Lynden, Washington and the Sumas Land Port of Entry in Sumas, Washington

AGENCY: Office of Public Buildings Service (PBS); General Services Administration, (GSA).

ACTION: Notice.

SUMMARY: Pursuant to the requirements of the National Environmental Policy Act of 1969 (NEPA), the Council on Environmental Quality Regulations, and the GSA/PBS NEPA Desk Guide, GSA intends to prepare an Environmental Impact Statement (EIS) to analyze the potential environmental impacts from the proposed expansion and modernization of the Kenneth G. Ward Land Port of Entry (LPOE) located in Lynden, Washington and the Sumas LPOE located in Sumas, Washington. GSA has initiated the required Section 106 consultation of the National Historic Preservation Act (NHPA) involving outreach efforts with the Washington State Historic Preservation Officer (SHPO) and Tribes.

DATES: A virtual public scoping meeting, in open house format, will be held on Wednesday, August 23, 2023, from 5:00 p.m. to 7:00 p.m. Pacific Daylight Time (PDT).

Interested parties should submit comments by Tuesday, September 12, 2023, to be considered in the formation of the Draft EIS. The views and comments of the public are necessary to help determine the scope and content of the environmental analysis. The meeting will be held on the Zoom platform where GSA will present and distribute project information and obtain input on the scope of the project. The link for the public scoping meeting can be found on the GSA project websites at: https://www.gsa.gov/lynden or https://www.gsa.gov/sumas.

All mail-in comments must be postmarked by September 12, 2023.

Deadlines for Requests of Special Accommodations: Persons needing special accommodations shall notify Emily Grimes at LyndenLPOE@gsa.gov or SumasLPOE@gsa.gov by 12:00 p.m. PDT, on August 16, 2023.

ADDRESSES: The public is encouraged to provide written comments regarding the scope of the EIS at the meeting and throughout the comment period. Submit comments identified by Notice-P-2023-02 by any of the following methods:

• Email: LyndenLPOE@gsa.gov, or SumasLPOE@gsa.gov. Include Notice Identifier in the subject line of the message.

• Virtual Meeting: Online comment forms will be available during the August 23rd open-house public meeting and at the GSA project websites listed below throughout the comment period: https://www.gsa.gov/lynden and https://www.gsa.gov/sumas.

• Mail: U.S. General Services Administration, Attention: Emily Grimes, Environmental Program Manager, 1301 A Street, Suite 610, Tacoma, WA 98402. Written comments must be postmarked by September 12, 2023.

• Federal Register: Submit comments in response to Notice-P-2023-02 via http://www.regulations.gov. Submit comments via the Federal eRulemaking portal by searching for “Notice-P-2023-02”. Select the link “Comment” that corresponds with Notice-P-2023-02.” Follow the instructions provided at the screen. Please include your name, company name (if any), and “Notice-P-2023-02” on your attached document. Comments received generally will be posted without change to http://www.regulations.gov, including any personal and/or business confidential information provided. To confirm receipt of your comment(s), please check http://www.regulations.gov, approximately two-to-three days after submission to verify posting.

FOR FURTHER INFORMATION CONTACT: Emily Grimes, Environmental Program Manager, Facilities Management Division, GSA. Phone: (253) 394-4026. Email: LyndenLPOE@gsa.gov and SumasLPOE@gsa.gov.

For press inquiries only, please contact Christi Chidester Votisek, Public Affairs Officer, GSA. Phone: (253) 931-7127. Email: christina.chidester@gsa.gov.

SUPPLEMENTARY INFORMATION: The Kenneth G. Ward LPOE is located at 9949 WA-539, Lynden, WA 98264 (hereafter Lynden LPOE), approximately 10 miles west of the Sumas LPOE at the end of Route 539 at the U.S.-Canada border. The Lynden LPOE is an inspection facility where U.S. Customs and Border Protection (CBP) processes personal vehicles, buses, limited commercial vehicles (permit only), and pedestrian traffic. There are four primary non-commercial lanes, one of which can also process limited commercial traffic. The port was constructed in 1988 and operates 16 hours a day, seven days a week.

The Sumas LPOE is an inspection facility where CBP processes commercial vehicles, personal vehicles, and pedestrian traffic at the U.S.-Canada border at 103 Cherry St, Sumas, WA 98295. There are currently four primary non-commercial lanes, with three lanes that process personal vehicles and one that accommodates buses and oversized vehicles; and two primary commercial lanes with booths. Pedestrian traffic transits through indoor processing queues and spaces. The port was constructed in 1988 and operates 24 hours a day, seven days a week.

The current Lynden and Sumas LPOEs no longer function adequately and cannot meet current operational needs. At the Lynden LPOE, space limitations cause frequent congestion in the commercial lane and commercial vehicles often travel farther distances to other ports that offer more efficient processing. The Sumas LPOE does not have enough space for efficient traffic flow or safe and secure inspection areas, which impede the port's operations and cause traffic and safety concerns in the surrounding urban area.

Alternatives Under Consideration

The EIS will evaluate a total of four alternatives at each location—one “no action” or “no build” alternative and three “action” or “build” alternatives. Alternative 1 is the No Action Alternative, which assumes that any demolition of existing facilities, construction of new facilities, and expansion of LPOE operations would not occur. Both LPOEs would continue to operate under current conditions. The three action alternatives would improve the efficiency and effectiveness of the Lynden and Sumas LPOEs and would all include acquiring land, demolishing existing facilities, and constructing new facilities.

At the Lynden LPOE, Alternative 2 would include an east-west facility layout for commercial inspections. Alternative 3 would be identical to Alternative 2 other than the rotation of commercial inspection to a north-south orientation. Land acquisition under Alternatives 2 and 3 at the Lynden LPOE would be similar in acreage but would differ in location or orientation. Alternative 4 would consist of the same facility layout as either Alternative 2 or 3, but would alter construction phasing such that construction activities at the LPOEs occur sequentially. Under Alternative 4, the Lynden LPOE would close and construction activities at the Lynden LPOE would occur first. Once the Lynden LPOE is reopened, the Sumas LPOE would close and construction activities at the Sumas LPOE would occur.

At the Sumas LPOE, the layout of Alternative 2 is designed to optimize operational flow—especially for outbound non-commercial vehicles. The facility layout of Alternative 3 maximizes the vehicle maneuvering area (especially for larger vehicles like trucks). Alternative 4 consists of a multiple story construction in order to provide greater vehicle maneuvering area for transiting vehicles. Compared to Alternatives 2 and 3, Alternative 4 would not have a different number of commercial, outbound, or personal vehicle lanes, but it may consolidate some of the administrative buildings and have a slightly smaller overall footprint. Land acquisition at the Sumas LPOE would be identical under each alternative.

Demolition, construction, and renovation activities would be phased to maintain LPOE operations at both ports for the entirety of the construction period under all action alternatives—except for Alternative 4 at the Lynden LPOE, which would require closing operations at both LPOEs during their respective construction activities. During this time, traffic at the LPOE under construction would be directed to the operational LPOE.

Potential impacts from these three action alternatives will be compared against a first “no action” alternative wherein the current LPOE facilities would continue to operate under existing conditions. The EIS will address the potential environmental impacts of the proposed alternatives on resource areas including but not limited to land use, water resources (including floodplains), biological resources, geology and soils, transportation and traffic, noise, cultural and Tribal resources, socioeconomics, environmental justice and protection of children's health, hazardous waste and materials, air quality, climate change, and utilities.

Anamarie T. Crawley,
Director, GSA-PBS R10 Facilities Management Division.

[FR Doc. 2023-16957 Filed 8-7-23; 8:45 am]

BILLING CODE 6820-DL-P